DEPARTMENT OF DEFENSE

Department of the Army

Privacy Act of 1974; System of Records

AGENCY: Department of the Army, DoD.

ACTION: Notice to Alter Systems of Records.

SUMMARY: The Department of the Army is altering two systems of records notices in its existing inventory of record systems subject to the Privacy Act of 1974, (5 U.S.C. 552a), as amended.

DATES: This proposed action will be effective without further notice on February 22, 2000, unless comments are received which result in a contrary determination.

ADDRESSES: Privacy Act Officer, Records Management Program Division, U.S. Total Army Personnel Command, ATTN: TAPC-PDR-P, Stop C55, Ft. Belvoir, VA 22060-5576.

FOR FURTHER INFORMATION CONTACT: Ms. Janice Thornton at (703) 806-4390 or DSN 656-4390.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on January 5, 2000 to the House Committee on Government Reform, the Senate Committee on Governmental Affairs, and the Office of Management and Budget (OMB) pursuant to paragraph 4c of Appendix I to OMB Circular No. A-130, ‘Federal Agency Responsibilities for Maintaining Records About Individuals,’ February 8, 1996 (February 20, 1996, 61 FR 6427).

Dated: January 13, 2000.
L.M. Bynum,
Alternate OSD Federal Register Liaison Officer, Department of Defense.

A0210-50 CE

SYSTEM NAME:

Army Housing Operations Management System (February 22, 1993, 58 FR 10002).

CHANGES:

* * * * *

SYSTEM IDENTIFIER:

Delete entry and replace with ‘A0210-50DAIM’.

* * * * *

SYSTEM LOCATION:

Delete entry and replace with ‘Office of the Assistant Chief of Staff for Installation Management, Directorate of Facilities and Housing, ATTN: DAIM-FDH, 7701 Telegraph Road, Alexandria, VA 22315-3800.

Secondary location: Offices of Facilities and Housing at major Army commands, field operating agencies, installations and activities, Army-wide. Official mailing addresses are published as an appendix to the Army's compilation of systems of records notices.”

CATEGORIES OF RECORDS IN THE SYSTEM:

Replace ‘hand receipts’ with ‘inventory listing’.

AUTHORITY FOR MAINTENANCE OF THE SYSTEM:

Delete entry and replace with ‘10 U.S.C. 3013, Secretary of the Army; DoD Directive 4165.63, DoD Housing; Army Regulation 210-50, Housing Management; and E.O. 9397 (SSN).’

ROUTINE USES OF RECORDS MAINTAINED IN THE SYSTEM, INCLUDING CATEGORIES OF USERS AND THE PURPOSES OF SUCH USES:

Add a new paragraph ‘To the Department of Housing and Urban Development to resolve and/or adjudicate matters falling within their jurisdiction.’

* * * * *

STORAGE:

Delete ‘cards’ from entry.

RETRIEVABILITY:

Delete entry and replace with ‘By individual's surname and/or Social Security Number.’

* * * * *

A0210-50 DAIM

SYSTEM NAME:

Army Housing Operations Management System (HOMS).

SYSTEM LOCATION:

Office of the Assistant Chief of Staff for Installation Management, Directorate of Facilities and Housing, ATTN: DAIM-FDH, 7701 Telegraph Road, Alexandria, VA 22315-3800.

Secondary location: Offices of Facilities and Housing at major Army commands, field operating agencies, installations and activities, Army-wide. Official mailing addresses are published as an appendix to the Army's compilation of systems of records notices.

CATEGORIES OF RECORDS IN THE SYSTEM:

Application for on/off post housing containing name, service/Social Security Number, rank/grade and date, service data, organization of assignment, home address and telephone number; locator data; appropriate travel orders; records reflecting housing availability/assignment/termination; housing financial records; referral services; property inventories, inventory listing, and issue slips; cost control, job orders; survey data; reports of liaison with real estate boards, realtors, brokers and other Government agencies; other management reports regarding the Army housing system, complaints and investigations; and similar relevant documents.

AUTHORITY FOR MAINTENANCE OF THE SYSTEM:

10 U.S.C. 3013, Secretary of the Army; DoD Directive 4165.63, DoD Housing; Army Regulation 210-50, Housing Management; and E.O. 9397 (SSN).

PURPOSE(S):

To provide information relating to the management, operation, and control of the Army housing program; to provide necessary housing for military personnel, their dependents, and qualified civilian employees; to determine housing adequacy/suitability; to document cost data for alterations/repair of units; to establish rental rates; to provide guidance and referral service; to reflect liaison with real estate boards, brokers, and other Government agencies; to render reports; to investigate complaints and related matters.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To the Department of Housing and Urban Development to resolve and/or adjudicate matters falling within their jurisdiction.

The ‘Blanket Routine Uses’ set forth at the beginning of the Army's compilation of systems of records notices also apply to this system.

POLICIES AND PRACTICES FOR STORING, RETRIEVING, ACCESSING, RETAINING, AND DISPOSING OF RECORDS IN THE SYSTEM:

STORAGE:

Paper records, computer tapes, discs, and printouts.

RETRIEVABILITY:

By individual's surname and/or Social Security Number.

SAFEGUARDS:

Records are maintained in areas accessible only to authorized persons having official need therefor, housed in buildings protected by security guards or locked when not in use. Information in automated media is further protected by physical security devices; access to or update of information in the system is protected through a system of passwords, thereby preserving integrity of data.

RETENTION AND DISPOSAL:

Installation troop housing files are destroyed after 3 years; installation housing project tenancy files are destroyed 3 years after termination of quarters occupancy; family housing cost controls are destroyed 11 years after last entry; family housing leasing files are destroyed 3 years after lease terminates, is canceled, lapses, or after any litigation is concluded; family housing rental rates are destroyed after 10 years; housing referral services are destroyed after 5 years; off-post rental housing reports are destroyed after 2 years; off-post housing complaints and investigations are destroyed 5 years after completion at office having Army-wide responsibility, and at other offices; complaint and investigation records are destroyed 2 years after completion.

SYSTEM MANAGER(S) AND ADDRESS:

Chief, Army Housing Automation, Office of the Assistant Chief of Staff for Installation Management, Directorate of Facilities and Housing, ATTN: DAIM-FDH, 600 Army Pentagon, Washington, DC 20310-0600.

NOTIFICATION PROCEDURE:

Individuals seeking to determine whether information about themselves is contained in this system should address written inquiries to the Directorate of Public Works, Chief of Housing Division at appropriate installation. Official mailing addresses are published as an appendix to the Army's compilation of systems of records notices.

RECORD ACCESS PROCEDURES:

Individuals seeking access to information about themselves contained in this system should address written inquiries to the Director of Public Works, Chief Housing Division at the appropriate installation. Official mailing addresses are published as an appendix to the Army's compilation of systems of records notices.

Individual should provide his/her name, address and last assignment location.

CONTESTING RECORD PROCEDURES:

The Army's rules for accessing records, and for contesting contents and appealing initial agency determinations are contained in Army Regulation 340-21; 32 CFR part 505; or may be obtained from the system manager.

RECORD SOURCE CATEGORIES:

From the individual, his/her personnel records, tenants/landlords and realty activities, financial institutions, and previous employers/commanders.

EXEMPTIONS CLAIMED FOR THE SYSTEM:

None.

A0215-3 DAPE

SYSTEM NAME:

NAF Personnel Records (February 22, 1993, 58 FR 10002).

CHANGES:

* * * * *

SYSTEM IDENTIFIER

Delete entry and replace with “A0215-3 SAMR”.

* * * * *

AUTHORITY FOR MAINTENANCE OF THE SYSTEM:

Delete entry and replace with “5 U.S.C. 301, Departmental Regulations; 10 U.S.C. 3013, Secretary of the Army; E.O. 9397 (SSN); and Army Regulation 215-3, Nonappropriated Funds and Related Activities Personnel Policies and Procedures.”

* * * * *

ROUTINE USES OF RECORDS MAINTAINED IN THE SYSTEM, INCLUDING CATEGORIES OF USERS AND THE PURPOSES OF SUCH USES:

Second paragraph, add “Equal Employment Opportunity Commission” and delete “Office of Personnel Management”, “Department of Justice”, “General Accounting Office”, and “General Services Administration”.

STORAGE:

Add to Entry “and electronic storage media.”

RETRIEVABILITY:

Delete entry and replace with “Paper records are retrieved by surname and electronic retrieval is both surname and Social Security Number.”

* * * * *

A0215-3 DAPE

SYSTEM NAME:

NAF Personnel Records.

SYSTEM LOCATION:

Civilian Personnel Offices and at Army installations; National Personnel Records Center, (Civilian), 111 Winnebago Street, St. Louis, MO 63118-4199. Where duplicates of these records are stored in a manager's employment file, e.g., an administrative office closer to where the employee actually works, this notice applies.

CATEGORIES OF INDIVIDUALS COVERED BY THE SYSTEM:

All individuals who have applied for employment with, are employed by, or were employed by nonappropriated fund (NAF) activities.

CATEGORIES OF RECORDS IN THE SYSTEM:

Applications for employment, documents relating to testings, ratings, qualifications, prior employment, appointment, suitability, security, retirement, group insurance, medical certificates; performance evaluations; job descriptions; training and career development records; awards and commendations data, tax withholding authorizations; documents relating to injury and death compensation, unemployment compensation, travel and transportation, Business Based Action (BBA), adverse actions, conflict-of-interest and/or conduct, and similar relevant matters.

AUTHORITY FOR MAINTENANCE OF THE SYSTEM:

5 U.S.C. 301, Departmental Regulations; 10 U.S.C. 3013, Secretary of the Army; E.O. 9397 (SSN); and Army Regulation 215-3, Nonappropriated Funds and Related Activities Personnel Policies and Procedures.

PURPOSE(S):

These records are maintained to carry out a personnel management program for Department of the Army non-appropriated fund instrumentalities. Records are used to recruit, appoint, assign, pay, evaluate, recognize, discipline, train and develop, and separate individuals; to administer employee benefits; and to conduct labor-management relations, employee-management relations, and responsibilities inheret in managerial and supervisory functions.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

Information may be disclosed to appropriate Federal agencies, such as the Department of Labor and the Equal Employment Opportunity Commission, to resolve and/or adjudicate matters falling within their jurisdiction.

Records may also be disclosed to labor organizations in response to requests for names of employees and identifying information.

The ‘Blanket Routine Uses’ set forth at the beginning of the Army's compilation of systems of records notices also apply to this system.

POLICIES AND PRACTICES FOR STORING, RETRIEVING, ACCESSING, RETAINING, AND DISPOSING OF RECORDS IN THE SYSTEM:

STORAGE:

Paper records in file folders, kardex files, and electronic storage media.

RETRIEVABILITY:

Paper records are retrieved by surname and electronic retrieval is both surname and Social Security Number.

SAFEGUARDS:

Records are maintained in areas restricted to authorized persons having official need therefor; all information is regarded as if it were marked ‘For Official Use Only’.

RETENTION AND DISPOSAL:

Records are permanent; after employee separates records are retired to the National Personnel Records Center (Civilian), 111 Winnebago Street, St. Louis, MO 63118-4199 within 30 days. Copies of these records maintained in an administrative office or by the supervisor are retained until the employee transfers or separates; destroyed 30 days later.

SYSTEM MANAGERS(S) AND ADDRESS:

Office of the Assistant Secretary of the Army, Manpower and Reserve Affairs, 200 Stovall Street, Alexandria, VA 22332-0300.

NOTIFICATION PROCEDURE:

Individuals seeking to determine whether information about themselves is contained in this system should address written inquiries to the local Civilian Personnel Officer; former nonappropriated fund employees should write to the National Personnel Records Center (Civilian) 111 Winnebago Street, St. Louis, Mo 63118-4199.

Individual should provide his/her full name, current address and telephone number, a specific description of the information/records sought, and any identifying numbers such as Social Security Number.

RECORD ACCESS PROCEDURES:

Individuals seeking access to information about themselves contained in this system should address written inquiries to the local Civilian Personnel Officer; former nonappropriated fund employees should write to the National Personnel Records Center (Civilian) 111 Winnebago Street, St. Louis, MO 63118-4199.

Individual should provide his/her full name, current address and telephone number, a specific description of the information/records sought, and any identifying numbers such as Social Security Number.

CONTESTING RECORD PROCEDURES:

The Army's rules for accessing records, and for contesting contents and appealing initial agency determinations are contained in Army Regulation 340-21; 32 CFR part 505; or may be obtained from the system manager.

RECORD SOURCE CATEGORIES:

From the applicant; statements or correspondence from persons having knowledge of the individual; official records; actions affecting individual's employment and/or pay.

EXEMPTIONS CLAIMED FOR THE SYSTEM:

None.

[FR Doc. 00-1312 Filed 1-19-00; 8:45 am]

BILLING CODE 5001-10-M